DEPARTMENT OF AGRICULTURE

Rural Business-Cooperative Service

Rural Housing Service

Rural Utilities Service

Strategic Economic and Community Development—Reservation of Fiscal Year 2018 Program Funds

AGENCY: Rural Business-Cooperative Service, Rural Housing Service, Rural Utilities Service, USDA.

ACTION: Notice.

SUMMARY: Section 6025 of the Agricultural Act of 2014 (2014 Farm Bill) provides the Secretary of Agriculture the authority to give priority to projects that support strategic economic development or community development plans. The Agency has the authority to reserve funds for those programs (referred to as the “underlying programs”) included in Strategic Economic and Community Development (SECD), for projects that support multijurisdictional strategic economic and community development plans. This Notice supersedes the SECD fiscal year 2016 (FY) notice that published on March 17, 2016 and identifies that for FY 2018 the Agency will utilize priority points under the SECD provisions, as opposed to set-aside funding.

DATES: To apply for SECD priority points, applicants must submit Form RD 1980-88, “Strategic Economic and Community Development (section 6025) Priority,” by the underlying program application deadlines or September 30, 2018, whichever comes first.

ADDRESSES: Submit Form RD 1980-88 to the USDA Rural Development Area Office servicing the area where the project is located. A list of the USDA Rural Development Area Offices can be found listed by state at: http://www.rd.usda.gov/browse-state.

FOR FURTHER INFORMATION CONTACT: For more information, please contact your respective Rural Development State Office listed here: http://www.rd.usda.gov/browse-state. A checklist of all required application information for Section 6025 SECD can be found at: https://www.rd.usda.gov/programs-services/strategic-economic-and-community-development.

For all other inquiries, contact Regional Community Economic Development Coordinators as follows:

• Midwest Region—Christine Sorensen: 202-568-9832, Christine.Sorensen@wdc.usda.gov.

• Northeast Region—Angela Callie: 610-791-9810 ext. 123, Angela.Callie@wdc.usda.gov.

• Southern Region—Greg Dale: (870) 633-3055 Ext. 123, Gregory.Dale@wdc.usda.gov.

• Western Region-Tim O'Connell: (503) 414-3396, Tim.Oconnell@wdc.usda.gov

• National Office—Jamie Davenport, Rural Development Innovation Center, U.S. Department of Agriculture, Stop 3254, 1400 Independence Avenue SW, Washington, DC 20250-0783, Telephone: 202-720-0002. Email: Jamie.Davenport@wdc.usda.gov.

SUPPLEMENTARY INFORMATION: This action has been reviewed and determined not to be a rule or regulation as defined in Executive Order 12866, as amended by Executive Order 13258.

Background

On March 17, 2016, the Agency published in the Federal Register (81 FR 14420) set-aside percentages for each of the underlying programs for which SECD priority points were available. As stated in that Notice, the percentage of funds reserved for SECD were to remain in effect for “each succeeding fiscal year unless changed in accordance with 7 CFR 1980.1004(b).”

The Agency has determined that several factors indicate the use of priority points for SECD projects is more desirable than set-aside funds this fiscal year. The factors are: (1) Priority points may be awarded through September 30, as opposed to June 30 for set-aside funds; (2) the level of demand for reserved funding in prior years; and (3) projects resulting from regional partnerships will be more strongly encouraged.

A. Applications

Applicants seeking FY 2018 funds for projects that support multijurisdictional plans will be eligible for SECD priority points. Applicants must (1) meet the eligibility requirements of the underlying program based on its annual notice, policies and/or regulations, including application deadlines; (2) meet the underlying program's return on investment requirements outlined in the notice of funding availability, as applicable; (3) meet the eligibility requirements of 7 CFR part 1980, subpart K; and (4) submit Form RD 1980-88 and supporting documentation.

B. Form RD 1980-88

To be considered for SECD priority points, applicants must submit a complete Form RD 1980-88. Applicants are encouraged to submit Form RD 1980-88 and supporting documentation concurrent with the application for the underlying program for which the applicant is applying, in an effort to avoid improper or duplicative awards to recipients as required by law.

Form RD 1980-80 requests such information as (see 7 CFR 1980.1015):

• Identification of whether the applicant includes a State, county, municipal, or tribal government;

• Identification by name of the plan being supported by the project, the date the plan became effective and is to remain in effect, and a detailed description of how the project directly supports one or more of the plan's objectives;

• Sufficient information to show that the project will be carried out solely in a rural area; and

• Identification of any current or previous applications the applicant has submitted for funds from the underlying programs.

If an applicant has already submitted a FY 2018 application for one of the underlying programs and the applicant wishes to be considered for SECD priority points, the applicant must submit Form RD 1980-88 by close of business on the date listed in the DATES section of this Notice for that program.

If an applicant has not submitted a FY 2018 application for one of the underlying programs and that program is still accepting applications for FY 2018 funding, the applicant must submit Form RD 1980-88 at the same time the applicant submits the application material for the underlying program.

Failure to submit a complete Form RD 1980-88 may result in not receiving SECD priority points.

C. Award Process

The Agency will score applications seeking SECD priority points in accordance with the procedures specified in 7 CFR 1980.1020. In accordance with 7 CFR 1980.1025, those applications, whose score will include any SECD priority points awarded for the entire fiscal year, will compete for program funding with all other program applications that do not seek SECD priority points using the award process for the applicable underlying program.

D. Reporting Requirements

Applicants whose applications with SECD priority points are selected for funding are required to submit information in accordance with 7 CFR 1980.1026.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov.

Dated: May 2, 2018.
Anne Hazlett,
Assistant to the Secretary, Rural Development.

[FR Doc. 2018-09912 Filed 5-9-18; 8:45 am]

BILLING CODE 3410-XY-P